DEPARTMENT OF COMMERCE

National Oceanic and Atmospheric Administration

RIN 0648-XV031

Draft Outline for a Work Plan for a Federal Aquaculture Regulatory Task Force

AGENCY: National Marine Fisheries Service (NMFS), National Oceanic and Atmospheric Administration (NOAA), Department of Commerce.

ACTION: Notice of availability; request for comments.

SUMMARY: On behalf of the National Science and Technology Council's Subcommittee on Aquaculture, NOAA announces the availability of the Draft Outline for a Work Plan for a Federal Aquaculture Regulatory Task Force for public review and comment.

DATES: NOAA will consider public comments received on or before November 8, 2019.

ADDRESSES:

Obtaining Documents: You may download the Draft Outline for a Work Plan for a Federal Aquaculture Regulatory Task Force at: https://www.ars.usda.gov/SCA/taskforce.html.

Submitting Comments: Interested persons may submit comments by any of the following methods:

• Electronic Submissions: Submit electronic public comments to Aqua.RegPlan@noaa.gov.

• Mail: Susan Bunsick, Attn: Aquaculture Work Plan Comments, Office of Aquaculture, F/AQ, 1315 East-West Highway, 12th Floor, Silver Spring, MD 20910.

Comments sent by any other method, to any other address or individual, or received after the end of the comment period, may not be considered by NMFS. All comments received are a part of the public record and will generally be made available for public viewing upon request. All personal identifying information (e.g., name, address, etc.), confidential business information, or otherwise sensitive information submitted voluntarily by the sender will be publicly accessible. NMFS will accept anonymous comments.

FOR FURTHER INFORMATION CONTACT: National Oceanic and Atmospheric Administration—Susan Bunsick, susan.bunsick@noaa.gov, 301-427-8325.

SUPPLEMENTARY INFORMATION:

Background

The U.S. national policy on aquaculture states that (from the National Aquaculture Act of 1980): “Congress declares that aquaculture has the potential for reducing the United States trade deficit in fisheries products, for augmenting existing commercial and recreational fisheries, and for producing other renewable resources, thereby assisting the United States in meeting its future food needs and contributing to the solution of world resource problems. It is, therefore, in the national interest, and it is the national policy, to encourage the development of aquaculture in the United States.”

The Subcommittee on Aquaculture (SCA), previously known as the Interagency Working Group on Aquaculture (IWGA) and the Joint Subcommittee on Aquaculture (JSA), is a statutory subcommittee that operates under the Committee on Environment of the National Science and Technology Council (NSTC) under the Office of Science and Technology Policy in the Executive Office of the President. It is co-chaired by the Department of Agriculture, Department of Commerce, and the White House Office of Science and Technology Policy. Members include the Department of Agriculture, Department of Commerce, Army Corps of Engineers, Department of the Interior, Food and Drug Administration, Environmental Protection Agency and the Office of Management and Budget. The SCA serves as the Federal interagency coordinating group to increase the overall effectiveness and productivity of Federal aquaculture research, regulation, technology transfer, and assistance programs. This interagency coordinating group has been functioning since before the National Aquaculture Act was signed into law in 1980.

This draft outline lays out the components of a Work Plan for a Federal Aquaculture Regulatory Task Force. The proposed goal of this plan is to address the Federal strategic goal of improving regulatory efficiency and predictability for domestic freshwater and marine aquaculture under existing laws and regulations. The plan proposes to describe key interagency and federal-state issues raised by aquaculture regulations relating to permitting and aquatic animal health as well as the key science and technology needs to facilitate streamlined regulations and timely management decisions under current regulations.

Next Steps

The public is encouraged to review and comment on the Draft Outline for a Work Plan for a Federal Aquaculture Regulatory Task Force. After the public comment period ends, NOAA and the SCA will consider and address the comments received before issuing a draft work plan.

Invitation to Comment

NOAA, on behalf of the National Science and Technology Council's Subcommittee on Aquaculture, seeks public review and comment on the Draft Outline for a Work Plan for a Federal Aquaculture Regulatory Task Force (see ADDRESSES above). Before including your address, telephone number, email address, or other personal identifying information in your comment, please be aware that your entire comment, including your personal identifying information, will become part of the public record.

Authority: This outline and plan is being issued under the following authorities: National Aquaculture Act of 1980 (Public Law 96-362, 94 Stat. 1198, 16 U.S.C. 2801, et seq.) and the National Aquaculture Improvement Act of 1985 (Public Law 99-198, 99 Stat. 1641).

Dated: October 3, 2019.
David O'Brien,
Acting Director, Office of Aquaculture, National Marine Fisheries Service.

[FR Doc. 2019-21988 Filed 10-8-19; 8:45 am]

BILLING CODE 3510-22-P